SMALL BUSINESS ADMINISTRATION

Reporting and Recordkeeping Requirements Under OMB Review

AGENCY: Small Business Administration.

ACTION: 30-Day Notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before July 23, 2014.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION: Small Business Administration requires this information by lenders and small business applicants for a loan under the Immediate Disaster Assistance Program (IDAP.) The information will be used among other things, to determine applicant's eligibility, perform lender oversight and portfolio risk management, evaluate program's effectiveness in reaching population, and general loan data reporting.

Summary of Information Collections

(1) Title: Immediate Disaster Assistance Loan Program Application and Eligibility Data.

Description of Respondents: IDAP Lender Participants.

Form Number's: 2410, 2411, 2412.

Estimated Annual Responses: 984.

Estimated Annual Hour Burden: 934.

Curtis B. Rich,
Management Analyst.

[FR Doc. 2014-14501 Filed 6-20-14; 8:45 am]

BILLING CODE 8025-01-P